DEPARTMENT OF AGRICULTURE

Office of the Secretary

Edward R. Madigan United States Agricultural Export Excellence Board of Evaluators: Nominations

AGENCY: Office of the Secretary, USDA.

ACTION: Edward R. Madigan United States Agricultural Export Excellence Board of Evaluators: Nominations.

SUMMARY: Notice is hereby given that nominations are being sought for six (6) qualified persons to serve on the Edward R. Madigan United states Agricultural Export Excellence Board of Evaluators (Board). The role of the Board is to provide the Secretary of Agriculture with advice and recommendations for the selection of recipients of the Edward R. Madigan United States Agricultural Export Excellence Award.

DATES: Written nominations must be received by the Foreign Agricultural Service (FAS) by 5 p.m., Eastern Daylight Time, April 12, 2004.

ADDRESSES: All nominating materials should be sent to Mr. James Warden, United States Department of Agriculture, Foreign Agricultural Service, Room 4939S-Stop 1052, 1400 Independence Avenue, SW., Washington, DC 20250-1052. Forms may also be submitted by fax to (202) 690-0193.

FOR FURTHER INFORMATION CONTACT: Persons interested in serving on the Edward R. Madigan United States Agricultural Export Excellence Board of Evaluators, or in nominating individuals to serve, should contact Mr. James Warden, Foreign Agricultural Service, by telephone (202) 720-6343, by fax (202) 690-0193, or by electronic mail to jim.warden@fas.usda.gov and request Form AD-755 and Form SF-181. Form AD-755 is required and is available at the FAS home page: http://www.fas.usda.gov/admin/ad755.pdf. Form SF-181 is requested, but optional, and is available at http://www.fas.usda.gov/admin/sf181.pdf. Persons with disabilities who require an alternative means for communication of information (Braille, large print, audiotape, etc.) shoudl contact USDA's Target Center at (202) 720-2600 (voice and TDD).

SUPPLEMENTARY INFORMATION: The Board is authorized by section 261(h) of the Federal Agriculture Improvement and Reform Act of 1996. The overall purpose of the Board is to provide the Secretary of Agriculture with advice and recommendations for the selection of recipients of the Edward R. Madigan United States Agricultural Export Excellence Award. The Board is composed of six (6) representatives from the private sector selected for their knowledge and experience in exporting U.S. agricultural products. More information about the purpose and function of the Board and can be found at: http://www.fas.usda.gov/info/madigan/madigan.html.

The members of the Board are appointed by the Secretary of Agriculture and serve at the discretion of the Secretary. Board members serve at their own expense; they are not compensated for their services and do not receive per diem or travel funds. Three (3) members will be selected for 2-year term maximums and three (3) others for 3-year term maximums. The Secretary may renew an appointment for one or more additional terms. The Board shall meet as often as the Secretary of Agriculture deems necessary either in person or via teleconference to review nominations and make recommendations.

Nominations are open to all individuals without regard to race, color, religion, sex, national origin, age, physical handicap, marital status, or sexual orientation. To ensure that the work of the Board takes into account the needs of the diverse groups served by USDA, membership shall include, to the extent practicable, individuals with demonstrated ability to represent the interest of minorities, women and persons with disabilities.

Members are selected primarily for their knowledge and experience in exporting U.S. agricultural products. No person, company, producer, farm organization, trade association or other entity has a right to representation on the Board. In making selections, every effort will be made to maintain balanced representation of the various broad industries within the United States as well as geographic diversity.

Dated: February 23, 2004.
A. Ellen Terpstra,
Administrator, Foreign Agricultural Service.

[FR Doc. 04-5497 Filed 3-10-04; 8:45 am]

BILLING CODE 3410-10-M